Department of Justice

Office of Justice Programs

[OMB Number 1121-NEW]

Agency Information Collection Activities: Existing Collection in Use Without OMB Control Number; Comments Requested

ACTION: 30-Day notice of information collection under review: Survey of state criminal history information systems.

The Department of Justice (DOJ), Office of Justice Programs, Bureau of Justice Statistics (BJS), has submitted the following information collection request to the Office of Management and Budget (OMB) for review and approval in accordance with the Paperwork Reduction Act of 1995. The proposed information collection is published to obtain comments from the public and affected agencies. This proposed information collection was previously published in the Federal Register Volume 71, Number 242, page 75771 on December 18, 2006, allowing for a 60 day comment period.

The purpose of this notice is to allow for an additional 30 days for public comment until March 19, 2007. This process is conducted in accordance with 5 CFR 1320.10.

If you have comments especially on the estimated public burden or associated response time, suggestions, or need a copy of the proposed information collection instrument with instructions or additional information, please contact Gerard Ramker, Bureau of Justice Statistics, 810 Seventh St., NW, Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses

Overview of this information collection:

(1) Type of Information Collection: Existing collection in use without OMB control number.

(2) Title of the Form/Collection: Survey of State Criminal History Information Systems.

(3) Agency form number, if any, and the applicable component of the Department of Justice sponsoring the collection: Not applicable.

(4) Affected public who will be asked or required to respond, as well as a brief abstract: Primary: State Government. This information collection is a survey of State record repositories to estimate the percentage of total state records that are immediately available through the FBI's Interstate Identification Index and the percentage of records that are complete and fingerprint-supported.

(5) An estimate of the total number of respondents and the amount of time estimated for an average respondent to respond: It is estimated that 53 respondents will expend approximately 3 hours completing the survey once every two years.

(6) An estimate of the total public burden (in hours) associated with the collection: There are an estimated 159 total annual burden hours associated with this collection.

If additional information is required contact: Lynn Bryant, Department Clearance Officer, United States Department of Justice, Justice Management Division, Policy and Planning Staff, Patrick Henry Building, Suite 1600, 601 D Street, NW., Washington, DC 20530.

Dated: February 12, 2007.
Lynn Bryant,
Department Clearance Officer, PRA, Department of Justice.

[FR Doc. E7-2798 Filed 2-15-07; 8:45 am]

BILLING CODE 4410-18-P